DEPARTMENT OF JUSTICE

Antitrust Division

Notice Pursuant to The National Cooperative Research and Production Act of 1993—Application Service Provider Industry Consortium, Inc.

Notice is hereby given that, on October 21, 1999, pursuant to section 6(a) of the National Cooperative Research and Production Act of 1993, 15 U.S.C. 4301 et seq. (“the Act”), Application Service Provider Industry Consortium, Inc. has filed written notifications simultaneously with the Attorney General and the Federal Trade Commission disclosing changes in its membership status. The notifications were filed for the purpose of extending the Act's provisions limiting the recovery of antitrust plaintiffs to actual damages under specified circumstances. Specifically, Xevo, Sudbury, MA; New Millenium Games, Inc., Reno, NV; Applicant, Inc., Seattle, WA; Cable & Wireless, Vienna, VA; Mi8 Corporation, New York, NY; Panoptic Technology Services, Inc., Cambridge, MA; Northpoint Communications, Inc., San Francisco, CA; 3Com Corporation, Santa Clara, CA; MultiEmedia.com, Caulfield North Victoria, Australia; StorageNetworks, Inc., Waltham, Ma; Clarus Corporation, Suwanee, GA; Envive Corporation, Mountain View, CA; SalesLogix Corporation, Scottsdale, AZ; HotOffice Technologies, Inc., Boca Raton, FL; Geneer, Des Plaines, IL; Pilot Network Services, Inc., Alameda, CA; Logix Communications Corp., Oklahoma City, OK; Telcordia Technologies, Piscataway, NJ; Centillion Data Systems, Inc., Indianapolis, IN; IntraLinks, New York, NY; Enterprise Networking Systems, Inc., Redwood City, CA; Workscape, Inc., Natick, MA; Aegis Consulting, LLC, Bethesda, MD; Allaire Corporation, Cambridge, MA; COBRA Computing By Remote Access, Amsterdam, The Netherlands; ITNET, Birmingham, United Kingdom; Thin Client Organization, LLC, Woodinville, WA; Argus Systems Group, Inc., Savoy, IL; Jato Communications, Denver, CO; Sound Computer Services, Altoona, PA; Prefersoft Solutions, Inc., Scotts Valley, CA; Pivotal Corporation, Kirkland, WA; Organicnet, Inc., San Francisco, CA; United Messaging Inc., Malvern, PA; Ten North Software, San Francisco, CA; @ccelerate Software, Inc., San Jose, CA; NexBase, Inc., Sunnyvale, CA; SAGA SOFTWARE, Inc., Reston, VA; INTEGRATION Ltd., Middlesex, United Kingdom; Princeton Financial Systems, Princeton; NJ; Concentric Network, San Jose, CA; TeleVideo, Inc., San Jose CA; LightPC.com, New York, NY; OPTIKA Technologies, Kuala Lumpur, Malaysia, CyberTech Systems, Inc., Trevose, PA; QSP Inc., Raleigh, NC; Infointeractive Inc., Bedford, Nova Scotia, Canada, Evalis AG, Koln, Germany; Legato Systems, Inc., Palo Alto, CA; Neteos, Inc., Burlington, MA; Captura Software, Inc., Bothell, WA; NIS Compulink Groupe Bull, Le Pecq-France; Localog, Paris, FRANCE; @tlas e-Solutions, Inc.; San Francisco, CA; Equant, Shalford, Guildford Surrey, United Kingdom; Syntacom IT-Services Inc., Waltham, MA; Choice Logis Corporation, Millburn, NJ; Hitachi Data Systems, Santa Clara, CA; Arqana Technologies, Mississauga, Ontario, Canada; InfoStream ASA, Oslo, Norway; NTT Communicationware Corp., Chiba-shi, Chiba, Japan; eALITY, Inc., Foster City, CA; Anacomp, Inc., Poway, CA; APC (American Power Conversion), West Kingston, RI; Solect Technology Group, Toronto, Ontario, Canada; AppNet, Inc., Bethesda, MD; Virtual Source, Inc., Ventura, CA; TabWare Software, Greenville, SC; KPMG, LLP, Malvern, PA; J.D. Edwards & Co., Denver CO; Cybersource Corporation, San Jose, CA; Technology Solutions Company, Chicago, IL; Elite Information Group, Inc., Los Angeles, CA; On the Go Software, Sunnyvale, CA; 2ndWave, Dallas, TX; ASP Global Ltd., Salford, Manchester, United Kingdom; onShore, Inc., Chicago, IL; WinStar, New York, NY; Exenet Technologies, Inc., New York, NY; Design Automation Systems, Inc., Houston, TX; The TriZetto® Group, Newport Beach, CA; CollegeNET, Inc., Portland, OR; Capstan Systems, Inc., San Francisco, CA; Epicor Software Corporation, Irvine, CA; Peachtree Software, Inc., Norcross, GA; Stratech Limited, Singapore, Republic of Singapore; NightFire Software, Inc., Berkeley, CA; Campio Communications, Inc., Santa Clara, CA; and SPG, Chicago, IL have been added as parties to this venture. Also, Xanthon, Inc., Salt Lake City, UT; and Sound Computer Services, Altoona, PA have been dropped as parties to this venture.

No other changes have been made in either the membership or planned activity of the group research project. Membership in this group research project remains open, and Application Service Provider Industry Consortium, Inc. intends to file additional written notification disclosing all changes in membership.

On July 28, 1999, Application service Provider industry Consortium, Inc. filed its original notification pursuant to section 6(a) of the Act. A notice has not yet been published in the Federal Register.

Constance K. Robinson,
Director of Operations, Antitrust Division.

[FR Doc. 00-12046 Filed 5-11-00; 8:45 am]

BILLING CODE 4410-11-M